NUCLEAR REGULATORY COMMISSION

Sunshine Federal Register Notice

Agency Holding the Meetings: Nuclear Regulatory Commission.

Date: Weeks of June 23, 30, July 7, 14, 21, 28, 2008.

Place: Commissioners' Conference Room, 11555 Rockville Pike, Rockville, Maryland.

Status: Public and Closed.

Week of June 23, 2008

Wednesday, June 25, 2008

1 p.m. Periodic Briefing on New Reactor Issues (Public Meeting) (Contact: Donna Williams, 301 415-1322).

This meeting will be Webcast live at the Web address http://www.nrc.gov.

Week of June 30, 2008—Tentative

Tuesday, July 1, 2008

9 a.m. Hearing: Diablo Canyon, 10 CFR Part 2, Subpart K Proceeding, Oral Arguments (Public Meeting) (Contact: John Cordes, 301 415-1600).

This meeting will be Webcast live at the Web address http://www.nrc.gov.

Week of July 7, 2008—Tentative

There are no meetings scheduled for the week of July 7, 2008.

Week of July 14, 2008—Tentative

Thursday, July 17, 2008

1 p.m. Briefing on Fire Protection Issues (Public Meeting) (Contact: Alex Klein, 301 415-2822).

This meeting will be Webcast live at the Web address http://www.nrc.gov.

Week of July 21, 2008—Tentative

Wednesday, July 23, 2008

1:30 p.m. Discussion of Security Issues (Closed—Ex. 1 & 3).

Thursday, July 24, 2008

1:30 p.m. Discussion of Security Issues (Closed—Ex. 1 & 3).

Week of July 28, 2008—Tentative

There are no meetings scheduled for the week of July 28, 2008.

* The schedule for Commission meetings is subject to change on short notice. To verify the status of meetings, call (recording)—(301) 415-1292. Contact person for more information: Michelle Schroll, (301) 415-1662.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 19, 2008.
R. Michelle Schroll,
Office of the Secretary.

[FR Doc. 08-1384 Filed 6-20-08; 10:30 am]

BILLING CODE 7590-01-P